DEPARTMENT OF TRANSPORTATION

Office of the Secretary of Transportation

[Docket No. DOT-OST-2015-0070]

Joint Application of Delta Air Lines, Inc. and Aerovias de Mexico, S.A. de C.V. for Approval of and Antitrust Immunity for Alliance Agreements

AGENCY: Office of the Secretary of Transportation (OST), Department of Transportation (DOT).

ACTION: Notice of order to show cause and order extending comment period.

SUMMARY: The United States Department of Transportation is required to give notice in the Federal Register that it has issued an Order to Show Cause tentatively dismissing without prejudice the application of Delta Air Lines (“Delta”) and Aerovias de Mexico, S.A. (“Aeromexico”) (collectively the “Joint Applicants”) to renew the Department's approval and grant of antitrust immunity (“ATI”) for their Joint Cooperation Agreement (“JCA”) and alliance agreements. Subsequently, upon motion of the Joint Applicants, the Department issued an Order extending the comment period. Interested stakeholders are invited to submit comments on the tentative decision.

DATES: Objections or comments to the Department's tentative findings and conclusions were initially due no later than 14 calendar days from the service date of the Order (i.e., February 9, 2024), and answers to objections were to be due no later than seven (7) business days thereafter (i.e., February 21, 2024). In a subsequent motion, the Joint Applicants petitioned for an extension of the comment period. The Department partially granted the request; objections or comments to the Department's tentative findings are now due no later than February 23, 2024, and answers to objections are now due no later than March 5, 2024. If no objections are filed, all further procedural steps shall be deemed waived, and we may enter an order making final our tentative findings and conclusions.

ADDRESSES: You may send comments, identified by docket number DOT-OST-2015-0070, via the Federal eRulemaking Portal: http://www.regulations.gov. Follow the instructions for sending comments. In addition, comments must be properly served on all interested parties in accordance with the Department's procedural regulations (14 CFR part 302).

FOR FURTHER INFORMATION CONTACT: Jason Horner, Transportation Industry Analyst, Office of Aviation Analysis, 1200 New Jersey Ave. SE, Washington, DC 20590; telephone (202) 366-5903; email jason.horner@dot.gov.

SUPPLEMENTARY INFORMATION: 14 CFR 303.43 requires that “[n]otice to the public of any . . . order to show cause concerning an application shall be made by publication in the Federal Register.” Accordingly, through this Federal Register Notice, the Department gives “notice to the public” that on January 26, 2024, the Department issued an Order to Show Cause (Order 2024-1-17, “Show Cause Order”) tentatively dismissing without prejudice the application of Delta and Aeromexico to renew the Department's approval and grant of antitrust immunity (“ATI”) for their Joint Cooperation Agreement. On January 29, 2024, the Joint Applicants petitioned the Department for additional time for objections and comments to the Show Cause Order. On February 7, 2024, the Department issued an Order Extending Comment Period (Order 2024-2-6, “Order Extending Comment Period”) by two weeks.

The Show Cause Order and the Order Extending Comment Period have both been posted in docket DOT-OST-2015-0070 at www.regulations.gov. The Show Cause Order directs all interested persons to show cause why we should not issue an order making final our tentative findings and conclusions discussed therein. Objections or comments to our tentative findings and conclusions shall now, pursuant to the Joint Applicant's motion and a subsequent Order by the Department, be due no later than 28 calendar days from the service date of the Order (i.e., February 23, 2024), and answers to objections shall be due no later than seven (7) business days thereafter (i.e., March 5, 2024). If no objections are filed, all further procedural steps shall be deemed waived, and we may enter an order making final our tentative findings and conclusions.

Dated: February 8, 2024.
Todd Homan,
Director, Office of Aviation Analysis, U.S. Department of Transportation.

[FR Doc. 2024-02976 Filed 2-13-24; 8:45 am]

BILLING CODE 4910-9X-P